DEPARTMENT OF THE TREASURY

Internal Revenue Service

Performance Review Board

AGENCY: Internal Revenue Service, Treasury.

ACTION: Notice of Members of Senior Executive Service Performance Review Board.

EFFECTIVE DATE: Performance Review Board effective October 1, 2000.

FOR FURTHER INFORMATION CONTACT: Sue Greenstein, 1111 Constitution Avenue, NW., M:ES, Room 3513, Washington, DC 20224, Telephone No. (202) 622-8514.

SUPPLEMENTARY INFORMATION: As required by Chapter 43, Subchapter II, Section 4314(c)(4) of Title 5, U. S. Code and Part 430, Subpart C, section 430.307, the following executives are members of the Internal Revenue Service's Senior Executive Service Performance Review Board (PRB):

Mr. Robert E. Wenzel, Deputy Commissioner, Operations and Chairperson, PRB

Daniel L. Black, Jr., Chief, Appeals

William E. Boswell, Chief, Agency-Wide Shared Services

John M. Dalrymple, Commissioner, Wage & Investment

Charles D. Fowler, III Chief, EEO & Diversity

Joseph G. Kehoe, Commissioner, Small Business & Self-Employed

Larry R. Langdon, Commissioner, Large & Mid-Size Business

David A. Mader, Assistant Deputy Commissioner, Operations

Mark E. Matthews, Chief, Criminal Investigation

Evelyn A. Petschek, Commissioner, Tax Exempt & Government Entities

John C. Stocker, Assistant Deputy Commissioner, Modernization

David R. Williams, Chief, Communications and Liaison

Toni L. Zimmerman, Deputy Chief Information Officer (Operations)

This document does not meet the Department of Treasury's criteria for significant regulations.

Dated: August 15, 2000.
Charles O. Rossotti,
Commissioner of Internal Revenue.

[FR Doc. 00-22545 Filed 8-31-00; 8:45 am]

BILLING CODE 4830-01-P